DEPARTMENT OF ENERGY

Bonneville Power Administration

Central Ferry to Lower Monumental 500-kilovolt Transmission Line Project

AGENCY: Bonneville Power Administration (BPA), Department of Energy (DOE).

ACTION: Notice of Availability of Record of Decision (ROD).

SUMMARY: This notice announces the availability of the ROD to implement the Central Ferry—Lower Monumental 500-kilovolt (kV) Transmission Line Project in Garfield, Columbia, and Walla Walla counties, Washington. BPA has decided to implement the Combination A Alternative identified in the Central Ferry—Lower Monumental 500-kV Transmission Line Project Final Environmental Impact Statement (DOE/EIS-0422, February 2011). The Combination A Alternative consists of constructing a new 500-kV single-circuit transmission line from BPA's new Central Ferry Substation near the Port of Central Ferry in Garfield County generally west through Garfield, Columbia, and Walla Walla counties to BPA's existing Lower Monumental Substation in Walla Walla County, a distance of about 38 miles. The transmission line route begins at the new Central Ferry Substation along the Snake River, and runs southwest for about 11 miles mostly parallel to and about 1,200 to 2,500 feet (about ¼; mile to ½ mile) south of BPA's two existing Little Goose-Lower Granite 500-kV steel lattice transmission lines. The route then angles away from the existing lines and proceeds southwest for about 6 miles before crossing the Tucannon River directly north of the town of Starbuck. The route then proceeds west for about 20 miles from the Tucannon River crossing to BPA's existing Lower Monumental Substation. BPA will acquire new 150-foot-wide right-of-way for the entire length of the new line. Approximately 161 new lattice steel transmission towers, ranging in height from about 104 to 189 feet with an average span length between towers of about 1,200 feet, will be constructed in the new right-of-way. The conductor and overhead ground wire for the new transmission line will be placed on these towers, and counterpoise would be buried in the ground at selected towers. Construction of the new line also will include the upgrade of about 5 miles of existing access roads, and the construction of about 38 miles of new access roads. Power circuit breakers, disconnect switches, and other electrical equipment will be installed at Lower Monumental Substation. In the vicinity of the Lower Monumental Substation, six existing steel lattice towers that support existing transmission lines in this area will be relocated to allow entry of the Central Ferry-Lower Monumental transmission line into the substation. Fiber optic cable will be installed along a portion of the new line. All mitigation measures identified in the EIS are adopted.

ADDRESSES: Copies of the ROD and EIS may be obtained by calling BPA's toll-free document request line, 1-800-622-4520. The ROD and EIS are also available on our Web site, http://www.bpa.gov/go/centralferrylomo.

FOR FURTHER INFORMATION CONTACT: Tish Eaton, Bonneville Power Administration—KEC-4, P.O. Box 3621, Portland, Oregon 97208-3621; toll-free telephone number 1-800-622-4519; fax number 503-230-5699; or e-mail tkeaton@bpa.gov.

Issued in Portland, Oregon, on March 11, 2011.
Stephen J. Wright,
Administrator and Chief Executive Officer.

[FR Doc. 2011-6662 Filed 3-21-11; 8:45 am]

BILLING CODE 6450-01-P